DEPARTMENT OF COMMERCE

Bureau of the Census

Census Scientific Advisory Committee

AGENCY: Bureau of the Census, Department of Commerce.

ACTION: Notice of public meeting.

SUMMARY: The U.S. Bureau of the Census (Census Bureau) is giving notice of a meeting of the Census Scientific Advisory Committee (CSAC). The Committee will address policy, research, and technical issues relating to a full range of Census Bureau programs and activities, including communications, decennial, demographic, economic, field operations, geographic, information technology, and statistics. CSAC information, including the agenda topics, can be found at the following website: https://www.census.gov/about/cac/sac.html.

DATES: The meeting will be held on the following dates:

• Thursday, March 26, 2020, from 8:30 a.m. to 5:00 p.m. EDT; and

• Friday, March 27, 2020, from 8:30 a.m. to 2:00 p.m. EDT.

ADDRESSES: The meeting will be held at the Census Bureau Auditorium, 4600 Silver Hill Road, Suitland, Maryland 20746. The meeting also will be available via webcast at: https://www.census.gov/newsroom/census-live.html. For the status of the meeting prior to attendance, please contact Tommy Wright, Designated Federal Officer, at 301-763-1702 or via email at tommy.wright@census.gov.

FOR FURTHER INFORMATION CONTACT: Kimberly Leonard, External Stakeholder Program Manager, Office of Program, Performance and Stakeholder Integrations, by mail at Department of Commerce, U.S. Census Bureau, Room 2K137, 4600 Silver Hill Road, Washington, DC 20233 or at 301-763-7281, or via email at: census.scientific.advisory.committee@census.gov. Individuals who use telecommunication devices for the deaf (TDD) may call the Federal Information Relay Service (FIRS) at 1-800-877-8339 between 8:00 a.m. and 8:00 p.m., Eastern Daylight Time, Monday through Friday.

SUPPLEMENTARY INFORMATION: The members of the CSAC are appointed by the Director, Census Bureau. The Committee provides scientific and technical expertise, as appropriate, to address Census Bureau program needs and objectives. The Committee has been established in accordance with the Federal Advisory Committee Act (Title 5, United States Code, Appendix 2, Section 10).

The purpose of the meeting is to:

1. Provide and update members on scientific and technical activities; and

2. address Census Bureau program needs and objectives.

The meeting is open to the public. The agenda will include time for people to make oral statements of three minutes or less. Individuals wishing to make oral statements should request in writing by Wednesday, March 18, 2020, to be scheduled on the agenda. Requests for time to make oral comments must be sent to: census.scientific.advisory.committee@census.gov. Please place in the subject line “March 2020 CSAC Meeting Public Comment.” Anyone who would like to bring extensive related matters to the attention of the Committee may file written statements with the Committee staff before or after the meeting. Written comments must be sent to: Kimberly Leonard, External Stakeholder Program Manager, Office of Program, Performance and Stakeholder Integrations, Department of Commerce, U.S. Census Bureau, Room 2K137, 4600 Silver Hill Road, Washington, DC 20233 or or by phone at 301-763-7281, or via email at: census.scientific.advisory.committee@census.gov.

If you are a person requiring reasonable accommodation, please make requests two weeks in advance for sign language interpreting, assistive listening devices, or other reasonable accommodation by contacting 301-763-7281. All reasonable accommodation requests are managed on a case-by-case basis.

For access to the facility or proceedings, please contact 301-763-9906 on the day of the meeting. A photo ID must be presented in order to receive your visitor's badge. Visitors are not allowed beyond the first floor.

Dated: February 28, 2020.
Steven D. Dillingham,
Director, Bureau of the Census.

[FR Doc. 2020-04551 Filed 3-4-20; 8:45 am]

BILLING CODE 3510-07-P